FEDERAL COMMUNICATIONS COMMISSION

47 CFR Part 73

[DA 00-25; MM Docket No. 93-28; RM-8172, RM-8299]

Radio Broadcasting Services; Colonial Heights, TN

AGENCY: Federal Communications Commission.

ACTION: Proposed rule, denial.

SUMMARY: The Commission denied a petition for reconsideration of the Memorandum Opinion and Order on reconsideration, 62 FR 664, published January 6, 1997, filed by Newport Publishing Co., licensee of Station WMXK(FM), Channel 240A (95.9 MHz), Morristown, Tennessee. The Commission rejected Newport's claim that the uncertainty as to when it should change the frequency of WMXK(FM) to accommodate the upgrade of Station WRZK(FM), Channel 290A (105.9 MHz), Colonial Heights, Tennessee, was unduly burdensome and, therefore, contrary to Commission policy.

FOR FURTHER INFORMATION CONTACT: J. Bertron Withers, Jr., Mass Media Bureau, (202) 418-2180.

SUPPLEMENTARY INFORMATION: This is a summary of the Memorandum Opinion and Order, MM Docket 93-28, adopted January 6, 2000, and released January 7, 2000. The full text of this Commission decision is available for inspection and copying during normal business hours in the Commission's Reference Center (room CY-A257) at its headquarters, 445 12th Street, S.W., Washington, DC 20554. The complete text of this decision may be also purchased from the Commission's copy contractor, International Transcription Service, (202) 857-3800, 1231 20th Street, N.W., Washington, DC 20036.

List of Subjects in 47 CFR Part 73

Radio broadcasting.

Federal Communications Commission.
John A. Karousos,
Chief, Allocations Branch, Policy and Rules Division, Mass Media Bureau.

[FR Doc. 00-2095 Filed 1-31-00; 8:45 am]

BILLING CODE 6712-01-U